DEPARTMENT OF ENERGY

Federal Energy Regulatory Commission

[Docket Nos. EC06-77-000, et al.]

FPL Group, Inc. et al.; Electric Rate and Corporate Filings

May 16, 2006.

The following filings have been made with the Commission. The filings are listed in ascending order within each docket classification.

1. FPL Group, Inc.; Constellation Energy Group, Inc.

[Docket No. EC06-77-000]

Take notice that on May 4, 2006, FPL Group, Inc. and Constellation Energy Group, Inc., pursuant to Rule 213(a)(2), filed their answer to the various Motions to Intervene, Protests and Requests for Hearing filed in the above-referenced proceeding.

Comment Date: 5 p.m. Eastern Time on May 25, 2006.

2. American Electric Power Service Corporation

[Docket No. EC06-117-000]

Take notice that on May 10, 2006, American Electric Power Service Corporation on behalf of AEP Texas North Company (TNC) and Southwestern Electric Power Company (SWEPCO) filed an application for authorization to transfer jurisdictional facilities from TNC to SWEPCO, pursuant to section 203 of the Federal Power Act and part 33 of the Commission's regulations.

Comment Date: 5 p.m. Eastern Time on May 31, 2006.

3. ExTex LaPorte Limited Partnership

[Docket No. EG06-36-000]

Take notice that on March 31, 2006, ExTex LaPorte Limited Partnership (ExTex LaPorte) tendered for filing additional information and analysis in support of its application filed on February 7, 2006.

Comment Date: 5 p.m. Eastern Time on May 24, 2006.

4. Dominion Energy Kewaunee, Inc.

[Docket No. EG06-50-000]

Take notice that on May 8, 2006, Dominion Energy Kewaunee, Inc. filed a notice of self-recertification of exempt wholesale generator status, pursuant to the Public Utility Holding Company Act of 2005 and section 366.7 of the Commission's regulations.

Comment Date: 5 p.m. Eastern Time on May 30, 2006.

5. Dynegy Power Marketing, Inc.; Rockingham Power, L.L.C.; Rocky Road Power, LLC; Calcasieu Power, LLC; Dynegy Midwest Generation, Inc.; Dynegy Danskammer, L.L.C.; Dynegy Roseton, L.L.C.; Heard County Power, L.L.C.; Riverside Generating Company, L.L.C.; Renaissance Power, L.L.C.; Bluegrass Generation Company, L.L.C.; Rolling Hills Generating, L.L.C.; Sithe/Independence Power Partners, L.P.; Sithe Energy Marketing, L.P.

[Docket Nos. ER99-4160-009; ER99-1567-005; ER99-2157-006; ER00-1049-006; ER00-1895-006; ER01-140-005; ER01-141-005; ER01-943-005; ER01-1044-006; ER01-3109-006; ER02-506-006; ER02-553-005; ER03-42-010; ER02-2202-009]

Take notice that on April 6, 2006, Dynegy Inc., on behalf of certain public utility subsidiaries, filed a joint notification of change in status with respect to Dynegy's recent acquisition of a percentage in Rocky Road Power, LLC's indirect ownership interest.

Comment Date: 5 p.m. Eastern Time on May 26, 2006.

6. A.O.G. Corporation

[Docket No. PH06-50-000]

Take notice that on May 8, 2006, A.O.G. Corporation filed a notice of petition for exemption from the requirements of the Public Utility Holding Company Act of 2005, pursuant to 18 CFR 366.3(b)(2)(vi) and 366.4(b)(1) of the Commission's Regulations.

Comment Date: 5 p.m. Eastern Time on May 30, 2006.

7. American States Water Company

[Docket No. PH06-51-000]

Take notice that on May 8, 2006, American States Water Company filed a notice of petition for waiver of the Commission's regulations under the Public Utility Holding Company Act of 2005, pursuant to 18 CFR 366.3(c)(1) and 366.4(c)(1) of the Commission's Regulations.

Comment Date: 5 p.m. Eastern Time on May 30, 2006.

8. Consolidated Edison, Inc.

[Docket No. PH06-52-000]

Take notice that on May 8, 2006, Consolidated Edison, Inc. filed a notice of petition for waiver of the Commission's regulations under the Public Utility Holding Company Act of 2005, pursuant to 18 CFR 366.21, 366.22 and 366.4(c)(1) of the Commission's Regulations.

Comment Date: 5 p.m. Eastern Time on May 30, 2006.

9. CH Energy Group, Inc.

[Docket No. PH06-53-000]

Take notice that on May 8, 2006, CH Energy Group, Inc. filed a notice of petition for waiver of the Commission's requirements of the Public Utility Holding Company Act of 2005, pursuant to 18 CFR 366.3(c)(1) and 366.4(c)(1) of the Commission's Regulations.

Comment Date: 5 p.m. Eastern Time on May 30, 2006.

10. Energy East Enterprises, Inc.; Berkshire Energy Resources; Connecticut Energy Corporation

[Docket No. PH06-54-000]

Take notice that on May 9, 2006, Energy East Enterprises, Inc., Berkshire Energy Resources, and Connecticut Energy Corporation filed a notice of petition for exemption from the requirements of the Public Utility Holding Company Act of 2005, pursuant to 18 CFR 366.3(b)(vi) and 366.4(b)(1) of the Commission's Regulations.

Comment Date: 5 p.m. Eastern Time on May 30, 2006.

11. RGS Energy Group, Inc.; CMP Group, Inc.; Central Maine Power Company; NORVARCO; CTG Resources, Inc.; TEN Companies, Inc.

[Docket No. PH06-55-000]

Take notice that on May 9, 2006, RGS Energy Group, Inc., CMP Group, Inc., Central Maine Power Company, NORVARCO, CTG Resources, Inc., and TEN Companies, Inc. filed a notice of petition for waiver of the Commission's regulations under the Public Utility Holding Company Act of 2005, pursuant to 18 CFR 366.3(c)(1) and 366.4(c)(1) of the Commission's Regulations.

Comment Date: 5 p.m. Eastern Time on May 30, 2006.

12. Energen Corporation

[Docket No. PH06-56-000]

Take notice that on May 8, 2006, Energen Corporation filed a notice of petition for exemption from the requirements of the Public Utility Holding Company Act of 2005, pursuant to 18 CFR 366.3(b)(2) and 366.4(b)(1) of the Commission's Regulations.

Comment Date: 5 p.m. Eastern Time on May 30, 2006.

13. UGI Corporation

[Docket No. PH06-57-000]

Take notice that on May 8, 2006, UGI Corporation filed a notice of petition for waiver of the Commission's regulations under the Public Utility Holding Company Act of 2005, pursuant to 18 CFR 366.3(c) and 366.4(c)(1) of the Commission's Regulations.

Comment Date: 5 p.m. Eastern Time on May 30, 2006.

14. Puget Energy, Inc.

[Docket No. PH06-58-000]

Take notice that on May 10, 2006, Puget Energy, Inc. filed a notice of petition for waiver of the Commission's regulations under the Public Utility Holding Company Act of 2005, pursuant to 18 CFR 366.3(c)(1) and 366.4(c)(1) of the Commission's Regulations.

Comment Date: 5 p.m. Eastern Time on May 31, 2006.

15. HH-SU Investments L.L.C.

[Docket No. PH06-59-000]

Take notice that on May 8, 2006, HH-SU Investments L.L.C. filed a notice of petition for waiver of the Commission's regulations under the Public Utility Holding Company Act of 2005, pursuant to 18 CFR 366.3(c) and 366.4(c)(1) of the Commission's Regulations.

Comment Date: 5 p.m. Eastern Time on May 30, 2006.

16. Cap Rock Energy Corporation

[Docket No. PH06-60-000]

Take notice that on May 8, 2006, Cap Rock Energy Corporation filed a notice of petition for waiver of the Commission's regulations under the Public Utility Holding Company Act of 2005, pursuant to 18 CFR 366.3(c) and 366.4(c)(1) of the Commission's Regulations.

Comment Date: 5 p.m. Eastern Time on May 30, 2006.

17. Peoples Energy Corporation

[Docket No. PH06-61-000]

Take notice that on May 9, 2006, Peoples Energy Corporation filed a notice of petition for waiver of the Commission's regulations under the Public Utility Holding Company Act of 2005, pursuant to 18 CFR 366.3(c) and 366.4(c)(1) of the Commission's Regulations.

Comment Date: 5 p.m. Eastern Time on May 30, 2006.

18. Peoples Energy Corporation

[Docket No. PH06-62-000]

Take notice that on May 9, 2006, Peoples Energy Corporation filed a notice of petition for exemption of the Commission's requirements of the Public Utility Holding Company Act of 2005, pursuant to 18 CFR 366.3(b) and 366.4(b)(1) of the Commission's Regulations.

Comment Date: 5 p.m. Eastern Time on May 30, 2006.

19. Duquesne Light Holdings, Inc.

[Docket No. PH06-63-000]

Take notice that on May 8, 2006, Duquesne Light Holdings, Inc. filed a notice of petition for waiver of the Commission's regulations under the Public Utility Holding Company Act of 2005, pursuant to 18 CFR 366.3(c)(1) and 366.4(c) of the Commission's Regulations.

Comment Date: 5 p.m. Eastern Time on May 30, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-7878 Filed 5-23-06; 8:45 am]

BILLING CODE 6717-01-P